DEPARTMENT OF DEFENSE

[DOD-2006-HA-0090]

32 CFR Part 199

RIN 0720-AA90

Office of the Secretary; Civilian Health and Medical Program of the Uniformed Services (CHAMPUS); Transitional Assistance Management Program; Early Eligibility for TRICARE for Certain Reserve Component Members

AGENCY: Office of the Secretary, DoD.

ACTION: Final rule.

SUMMARY: This final rule revises requirements and procedures for the Transitional Assistance Management Program, which was temporarily revised by section 704 of the National Defense Authorization Act for Fiscal Year 2004 (NDAA-04) (Pub. L. 108-136) and section 1117 of the Emergency Supplemental Appropriations Act for the Reconstruction of Iraq and Afghanistan, 2004 (Emergency Supplemental) (Pub. L. 108-106), which revisions were made permanent by section 706(a) of the Ronald W. Reagan National Defense Authorization Act for Fiscal Year 2005 (NDAA-05) (Pub. L. 108-375). In addition, it establishes requirements and procedures for implementation of the earlier TRICARE eligibility for certain reserve component members authorized by section 703 of NDAA-04 and section 1116 of the Emergency Supplemental, which provisions were made permanent by section 703 of NDAA-05. The rule adopts the interim rule published in the Federal Register on March 16, 2005 (70 FR 12798).

DATES: Effective Date: June 2, 2006.

ADDRESSES: TRICARE Management Activity, TRICARE Operations: 5111 Leesburg Pike, Ste. 810; Falls Church, VA 22041-3206.

FOR FURTHER INFORMATION CONTACT: Jody Donehoo, Office of the Assistant Secretary of Defense (Health Affairs), telephone (703) 681-0039. Questions regarding payment of specific claims under the TRICARE allowable charge method should be addressed to the appropriate TRICARE contractor.

SUPPLEMENTARY INFORMATION:

I. Introduction and Background

A. Overview of the Enhanced Health Care Benefits for Reservists and Their Family Members. An interim final rule was published in the Federal Register on March 16, 2005 (70 FR 12798-12805) that addressed three provisions of the Ronald W. Reagan National Defense Authorization Act for Fiscal Year 2005 (NDAA-05) (Pub. L. 108-375) that enhance health care benefits for reservists and their family members. Two of the three provisions in that interim final rule are addressed in this final rule. The third provision that established requirements and procedures for implementation of TRICARE Reserve Select will be addressed in a separate interim final rule, incorporating the changes required by the National Defense Authorization Act for Fiscal Year 2006 (Pub. L. 109-163).

The first of the two provisions addressed in this final rule is section 706(a) of NDAA-05, which makes permanent the temporary revisions to the Transitional Assistance Management Program that were enacted in section 704 of the National Defense Authorization Act for Fiscal Year 2004 (NDAA-04) (Pub. L. 108-136) and section 1117 of the Emergency Supplemental Appropriations Act for the Reconstruction of Iraq and Afghanistan, 2004 (Emergency Supplemental) (Pub. L. 108-106). The second of the two provisions addressed in this final rule is section 703 of the NDAA-05, which makes permanent the earlier TRICARE eligibility for certain reserve component members that was authorized by section 703 of NDAA-04 and section 1116 of the Emergency Supplemental.

These provisions represent significant enhancements to the health care benefits available to reservists and their eligible family members. They focus particularly on reservists and guardsmen activated in support of a contingency operation after September 11, 2001. Prior to the statutory changes enacted since November 2003, reservists and their families received TRICARE health care benefits when activated for more than 30 consecutive days. Now, TRICARE benefits begin up to 90 days prior to activation for those who receive delayed-effective-date orders, and coverage is extended to a full 180 days after a period of active service in support of a contingency operation. These changes provide for an easier transition to and from civilian life.

B. Public Comments. The interim final rule was published in the Federal Register on March 16, 2005. We received no public comments on the two provisions addressed in this Final Rule.

II. Provisions of the Rule Regarding the Transitional Assistance Management Program

A. Eligibility under the Transitional Assistance Management Program (TAMP) (paragraph 199.3(e)).

1. Provisions of Interim Final Rule. Section 706(a) of NDAA-05 makes permanent revisions to the Transitional Assistance Management Program, which was temporarily revised by section 704 of NDAA-04 and section 1117 of the Emergency Supplemental. Based on these enactments, several categories of armed forces members are eligible for transitional health care after serving on active duty. These include:

1. A member who is involuntarily separated from active duty;

2. A member of a reserve component who is separated from active duty to which called or ordered in support of a contingency operation if the active duty is active duty for a period of more than 30 consecutive days;

3. A member who is separated from active duty for which the member is involuntarily retained under 10 U.S.C. 12305 in support of a contingency operation; or

4. A member who is separated from active duty served pursuant to a voluntary agreement of the member to remain on active duty for a period of less than one year in support of a contingency operation.

The spouse and children of the member are also eligible for TAMP benefits. TAMP benefits begin the day after the member is separated from active duty, and end 180 days later. Eligibility is determined by the armed forces.

2. Analysis of Major Public Comments. No public comments were received.

3. Provisions of the Final Rule. The final rule is consistent with the interim final rule.

B. Beneficiary liability under TAMP. (paragraph 199.4(f)(2)(vi)).

1. Provisions of Interim Final Rule. This paragraph establishes that TAMP beneficiaries (including the member) are subject to the TRICARE Standard (and Extra) deductible and cost sharing rules applicable to active duty family members.

2. Analysis of Major Public Comments. No public comments were received.

3. Provisions of the Final Rule. The final rule is consistent with the interim final rule.

III. Provisions of the Rule Regarding Early Eligibility for TRICARE for Certain Reserve Component Members

A. Eligibility (paragraph 199.3(b)(5)).

1. Provisions of Interim Final Rule. This paragraph incorporates requirements and procedures for implementation of the earlier temporary TRICARE eligibility for certain reserve component members authorized by section 703 of NDAA-04 and section 1116 of the Emergency Supplemental, which provisions were made permanent by section 703 of NDAA-05. Under this paragraph reserve component members issued delayed-effective-date orders for service in support of a contingency operation, and their family members, are eligible for TRICARE on the date the orders are issued, up to 90 days prior to the date on which the period of active duty of more than 30 consecutive days is to begin.

2. Analysis of Major Public Comments. There were no public comments.

3. Provisions of the Final Rule. The final rule is consistent with the interim final rule.

IV. Regulatory Procedures

Executive Order 12866 requires certain regulatory assessments for any significant regulatory action that would result in an annual effect on the economy of $100 million or more, or have other substantial impacts. The Congressional Review Act establishes certain procedures for major rules, defined as those with similar major impacts. The Regulatory Flexibility Act (RFA) requires that each Federal agency prepare, and make available for pubic comment, a regulatory flexibility analysis when the agency issues a regulation that would have significant impact on a substantial number of small entities. This final rule is not subject to any of those requirements because it would not have any of these substantial impacts. Any substantial impacts associated with implementation of transitional health care under the Transitional Assistance Management Program and the early eligibility for TRICARE for certain reserve component members are already determined by statute and are outside any discretionary action of DoD or effect of this regulation.

This rule, however, does address novel policy issues relating to implementation of a new medical benefits program for members of the armed forces. Thus, this rule has been reviewed by the Office of Management and Budget under E.O. 12866.

This rule will not impose additional information collection requirements on the public under the Paperwork Reduction Act of 1995 (44 U.S.C. 3501-3511).

We have examined the impact(s) of the final rule under Executive Order 13132 and it does not have policies that have federalism implications that would have substantial direct effects on the States, on the relationship between the National Government and the States, or on the distribution of power and responsibilities among the various levels of government, therefore, consultation with State and local officials is not required.

List of Subjects in 32 CFR Part 199

Claims, Handicapped, Health insurance, and Military personnel.

PART 199—[AMENDED]

Accordingly, the interim rule amending 32 CFR part 199 which was published on March 16, 2005 (70 FR 12798) is adopted as a final rule without change.

Dated: May 26, 2006.
L.M. Bynum,
OSD Federal Liaison Officer, Department of Defense.

[FR Doc. 06-5042 Filed 6-1-06; 8:45 am]

BILLING CODE 5001-06-M